NUCLEAR REGULATORY COMMISSION

[Docket No. NRC-2010-0153]

Agency Information Collection Activities: Proposed Collection; Comment Request

AGENCY: U.S. Nuclear Regulatory Commission (NRC).

ACTION: Notice of pending NRC action to submit an information collection request to the Office of Management and Budget (OMB) and solicitation of public comment.

SUMMARY: The NRC invites public comment about our intention to request the OMB's approval for renewal of an existing information collection that is summarized below. We are required to publish this notice in the Federal Register under the provisions of the Paperwork Reduction Act of 1995 (44 U.S.C. Chapter 35).

Information pertaining to the requirement to be submitted:

1. The title of the information collection:

NRC Form 136, “Security Termination Statement”;

NRC Form 237, “Request for Access Authorization”;

NRC Form 277, “Request for Visit or Access Authorization”.

2. Current OMB approval numbers:

3150-0049, NRC Form 136;

3150-0050, NRC Form 237;

3150-0051, NRC Form 277.

3. How often the collection is required:

NRC Form 136: Routinely;

NRC Form(s): 237 and 277: On occasion.

4. Who is required or asked to report: NRC employees, licensees and contractors.

5. The number of annual respondents:

NRC Form 136: 300;

NRC Form 237: 420;

NRC Form 277: 60.

6. The number of hours needed annually to complete the requirement or request:

NRC Form 136: 50;

NRC Form 237: 84;

NRC Form 277: 10.

7. Abstract: The NRC Form 136 is completed by NRC employees licensees and contractors that are leaving the NRC. The NRC Form 237 is completed by NRC contractors, subcontractors, licensee employees, employees of other government agencies, and other individuals who are not NRC employees that require an NRC access authorization. The NRC Form 277 affects NRC contractor and licensees who have been granted an NRC access authorization and require verification of that access authorization and need-to-know in conjunction with a visit to NRC, other contractors/licensees or government agencies in which access to classified information will be involved or unescorted area access is desired.

Submit, by June 15, 2010, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2010-0153. You may submit your comments by any of the following methods. Electronic comments: Go to http://www.regulations.gov and search for Docket No. NRC-2010-0153. Mail comments to NRC Clearance Officer, Tremaine Donnell (T-5 F52), U.S. Nuclear Regulatory Commission, Washington, DC 20555-0001. Questions about the information collection requirements may be directed to the NRC Clearance Officer, Tremaine Donnell (T-5 F52), U.S. Nuclear Regulatory Commission, Washington, DC 20555-0001, by telephone at 301-415-6258, or by e-mail to INFOCOLLECTS.Resource@NRC.GOV.

Dated at Rockville, Maryland, this 9th day of April 2010.
For the Nuclear Regulatory Commission,
Tremaine Donnell,
NRC Clearance Officer, Office of Information Services.

[FR Doc. 2010-8747 Filed 4-15-10; 8:45 am]

BILLING CODE 7590-01-P